DEPARTMENT OF ENERGY

Federal Energy Regulatory Commission

Combined Notice of Filings #1

Take notice that the Commission received the following electric corporate filings:

Docket Numbers: EC16-123-000.

Applicants: BluCo Energy LLC.

Description: Application under FPA Section 203 of BluCo Energy LLC.

Filed Date: 6/1/16.

Accession Number: 20160602-5182.

Comments Due: 5 p.m. ET 6/22/16.

Docket Numbers: EC16-124-000.

Applicants: Iron Energy LLC.

Description: Application under FPA Section 203 of Iron Energy LLC.

Filed Date: 6/1/16.

Accession Number: 20160602-5187.

Comments Due: 5 p.m. ET 6/22/16.

Docket Numbers: EC16-125-000.

Applicants: Northbrook New York, LLC.

Description: Application for Authorization Under Section 203 of the Federal Power Act and Request for Waivers and Expedited Action of Northbrook New York, LLC.

Filed Date: 6/1/16.

Accession Number: 20160601-5406.

Comments Due: 5 p.m. ET 6/22/16.

Docket Numbers: EC16-126-000.

Applicants: Odell Wind Farm, LLC, Algonquin Power (Odell Holdings) Inc., Odell SponsorCo, LLC, Odell Holdings, LLC.

Description: Application of Odell Wind Farm, LLC, et al. for Authorization Under Section 203 of the Federal Power Act for Disposition of Jurisdictional Facilities, Request for Expedited Consideration and Confidential Treatment.

Filed Date: 6/1/16.

Accession Number: 20160602-5222.

Comments Due: 5 p.m. ET 6/22/16.

Take notice that the Commission received the following electric rate filings:

Docket Numbers: ER10-2238-008; ER10-2239-008; ER10-2237-007; ER12-896-004.

Applicants: Indigo Generation LLC, Larkspur Energy LLC, Wildflower Energy LP, Mariposa Energy, LLC.

Description: Triennial Market Power Analysis for the Southwest Region of the DGC Southwest Sellers, et al.

Filed Date: 6/2/16.

Accession Number: 20160602-5324.

Comments Due: 5 p.m. ET 8/1/16.

Docket Numbers: ER15-767-003

Applicants: Midcontinent Independent System Operator, Inc.

Description: Compliance filing: 2016-06-02_Schedule 43I White Pine 2 SSR Cost Allocation Compliance to be effective 1/1/2015.

Filed Date: 6/2/16.

Accession Number: 20160602-5256.

Comments Due: 5 p.m. ET 6/23/16.

Docket Numbers: ER15-2145-001.

Applicants: Midcontinent Independent System Operator, Inc.

Description: Compliance filing: 2016-06-02_Schedule 43H_White Pine 1 SSR Cost Allocation Compliance to be effective 4/16/2015.

Filed Date: 6/2/16.

Accession Number: 20160602-5299.

Comments Due: 5 p.m. ET 6/23/16.

Docket Numbers: ER16-938-004.

Applicants: Arizona Public Service Company.

Description: Compliance filing: Compliance Filing—Corrected Schedule 10 to be effective 10/1/2016.

Filed Date: 6/2/16.

Accession Number: 20160602-5329.

Comments Due: 5 p.m. ET 6/23/16.

Docket Numbers: ER16-1083-001.

Applicants: Midcontinent Independent System Operator, Inc.

Description: Compliance filing: 2016-06-02SA 2786 ITC Midwest-IPL 1st Rev. GIA (J233) Compliance to be effective 3/5/2016.

Filed Date: 6/2/16.

Accession Number: 20160602-5300.

Comments Due: 5 p.m. ET 6/23/16.

Docket Numbers: ER16-1835-000.

Applicants: Appalachian Power Company, PJM Interconnection, L.L.C.

Description: § 205(d) Rate Filing: AEPSC submits revisions to RAA Sch 8.1-Appdx 2B re: depreciation rates for APCo to be effective 6/1/2016.

Filed Date: 6/2/16.

Accession Number: 20160602-5002.

Comments Due: 5 p.m. ET 6/23/16.

Docket Numbers: ER16-1836-000.

Applicants: Deseret Generation & Transmission Co-operative, Inc.

Description: § 205(d) Rate Filing: 2016 RIA Annual Update to be effective 1/1/2016.

Filed Date: 6/1/16.

Accession Number: 20160602-5003.

Comments Due: 5 p.m. ET 6/22/16.

Docket Numbers: ER16-1837-000.

Applicants: PJM Interconnection, L.L.C.

Description: § 205(d) Rate Filing: Original WMPA SA No. 4475, Queue No. Z2-116 to be effective 5/23/2016.

Filed Date: 6/2/16.

Accession Number: 20160602-5147.

Comments Due: 5 p.m. ET 6/23/16.

Docket Numbers: ER16-1838-000.

Applicants: ISO New England Inc., New England Power Pool Participants Committee.

Description: § 205(d) Rate Filing: Joint Filing of ISO-NE and NEPOOL to Implement Sub-Hourly Settlements to be effective 3/1/2017.

Filed Date: 6/2/16.

Accession Number: 20160602-5148.

Comments Due: 5 p.m. ET 6/23/16.

Docket Numbers: ER16-1839-000.

Applicants: Midcontinent Independent System Operator, Inc., Ameren Illinois Company.

Description: § 205(d) Rate Filing: 2016-06-02SA 2921 Ameren Illinois-Prairie Power T-TIA (Ballard Substation) to be effective 5/3/2016.

Filed Date: 6/2/16.

Accession Number: 20160602-5150.

Comments Due: 5 p.m. ET 6/23/16.

Docket Numbers: ER16-1840-000.

Applicants: PPL Electric Utilities Corporation, PJM Interconnection, L.L.C.

Description: § 205(d) Rate Filing: PPL submits Engineering and Construction SA No. 4476 with MetEd to be effective 8/1/2016.

Filed Date: 6/2/16.

Accession Number: 20160602-5153.

Comments Due: 5 p.m. ET 6/23/16.

Docket Numbers: ER16-1841-000.

Applicants: PJM Interconnection, L.L.C.

Description: § 205(d) Rate Filing: Original WMPA SA No. 4472, Queue No. Z2-114 to be effective 5/23/2016.

Filed Date: 6/2/16.

Accession Number: 20160602-5186.

Comments Due: 5 p.m. ET 6/23/16.

Docket Numbers: ER16-1843-000.

Applicants: Beech Ridge Energy LLC.

Description: § 205(d) Rate Filing: Revised Market-Based Rate Tariff Filing to be effective 8/2/2016.

Filed Date: 6/2/16.

Accession Number: 20160602-5305.

Comments Due: 5 p.m. ET 6/23/16.

Docket Numbers: ER16-1844-000.

Applicants: Beech Ridge Energy II LLC.

Description: § 205(d) Rate Filing: Revised Market-Based Rate Tariff Filing to be effective 8/2/2016.

Filed Date: 6/2/16.

Accession Number: 20160602-5307.

Comments Due: 5 p.m. ET 6/23/16.

Docket Numbers: ER16-1845-000.

Applicants: Beech Ridge Energy Storage LLC.

Description: § 205(d) Rate Filing: Revised Market-Based Rate Tariff Filing to be effective 8/2/2016.

Filed Date: 6/2/16.

Accession Number: 20160602-5308.

Comments Due: 5 p.m. ET 6/23/16.

Docket Numbers: ER16-1846-000.

Applicants: Bishop Hill Energy III LLC.

Description: § 205(d) Rate Filing: Revised Market-Based Rate Tariff Filing to be effective 8/2/2016.

Filed Date: 6/2/16.

Accession Number: 20160602-5309.

Comments Due: 5 p.m. ET 6/23/16.

Docket Numbers: ER16-1847-000.

Applicants: Buckeye Wind Energy LLC.

Description: § 205(d) Rate Filing: Revised Market-Based Rate Tariff Filing to be effective 8/2/2016.

Filed Date: 6/2/16.

Accession Number: 20160602-5310.

Comments Due: 5 p.m. ET 6/23/16.

Docket Numbers: ER16-1848-000.

Applicants: Forward Energy LLC.

Description: § 205(d) Rate Filing: Revised Market-Based Rate Tariff Filing to be effective 8/2/2016.

Filed Date: 6/2/16.

Accession Number: 20160602-5312.

Comments Due: 5 p.m. ET 6/23/16.

Docket Numbers: ER16-1849-000.

Applicants: Grand Ridge Energy LLC.

Description: § 205(d) Rate Filing: Revised Market-Based Rate Tariff Filing to be effective 8/2/2016.

Filed Date: 6/2/16.

Accession Number: 20160602-5313.

Comments Due: 5 p.m. ET 6/23/16.

Docket Numbers: ER16-1850-000.

Applicants: Grand Ridge Energy III LLC.

Description: § 205(d) Rate Filing: Revised Market-Based Rate Tariff Filing to be effective 8/2/2016.

Filed Date: 6/2/16.

Accession Number: 20160602-5314.

Comments Due: 5 p.m. ET 6/23/16.

Docket Numbers: ER16-1851-000.

Applicants: Grand Ridge Energy IV LLC.

Description: § 205(d) Rate Filing: Revised Market-Based Rate Tariff Filing to be effective 8/2/2016.

Filed Date: 6/2/16.

Accession Number: 20160602-5315.

Comments Due: 5 p.m. ET 6/23/16.

Docket Numbers: ER16-1852-000.

Applicants: Grand Ridge Energy V LLC.

Description: § 205(d) Rate Filing: Revised Market-Based Rate Tariff Filing to be effective 8/2/2016.

Filed Date: 6/2/16.

Accession Number: 20160602-5316.

Comments Due: 5 p.m. ET 6/23/16.

Docket Numbers: ER16-1853-000.

Applicants: Grand Ridge Energy Storage LLC.

Description: § 205(d) Rate Filing: Revised Market-Based Rate Tariff Filing to be effective 8/2/2016.

Filed Date: 6/2/16.

Accession Number: 20160602-5317.

Comments Due: 5 p.m. ET 6/23/16.

Docket Numbers: ER16-1854-000.

Applicants: Gratiot County Wind LLC.

Description: § 205(d) Rate Filing: Revised Market-Based Rate Tariff Filing to be effective 8/2/2016.

Filed Date: 6/2/16.

Accession Number: 20160602-5318.

Comments Due: 5 p.m. ET 6/23/16.

Docket Numbers: ER16-1855-000.

Applicants: Gratiot County Wind II LLC.

Description: § 205(d) Rate Filing: Revised Market-Based Rate Tariff Filing to be effective 8/2/2016.

Filed Date: 6/2/16.

Accession Number: 20160602-5319.

Comments Due: 5 p.m. ET 6/23/16.

Docket Numbers: ER16-1856-000.

Applicants: Grays Harbor Energy LLC.

Description: § 205(d) Rate Filing: Revised Market-Based Rate Tariff Filing to be effective 8/2/2016.

Filed Date: 6/2/16.

Accession Number: 20160602-5320.

Comments Due: 5 p.m. ET 6/23/16.

Docket Numbers: ER16-1857-000.

Applicants: Invenergy Cannon Falls LLC.

Description: § 205(d) Rate Filing: Revised Market-Based Rate Tariff Filing to be effective 8/2/2016.

Filed Date: 6/2/16.

Accession Number: 20160602-5321.

Comments Due: 5 p.m. ET 6/23/16.

Docket Numbers: ER16-1858-000.

Applicants: Invenergy TN LLC.

Description: § 205(d) Rate Filing: Revised Market-Based Rate Tariff Filing to be effective 8/2/2016.

Filed Date: 6/2/16.

Accession Number: 20160602-5322.

Comments Due: 5 p.m. ET 6/23/16.

Docket Numbers: ER16-1859-000.

Applicants: Invenergy Nelson LLC.

Description: § 205(d) Rate Filing: Revised Market-Based Rate Tariff Filing to be effective 8/2/2016.

Filed Date: 6/2/16.

Accession Number: 20160602-5323.

Comments Due: 5 p.m. ET 6/23/16.

Docket Numbers: ER16-1860-000.

Applicants: Judith Gap Energy LLC.

Description: § 205(d) Rate Filing: Revised Market-Based Rate Tariff Filing to be effective 8/2/2016.

Filed Date: 6/2/16.

Accession Number: 20160602-5325.

Comments Due: 5 p.m. ET 6/23/16.

Docket Numbers: ER16-1861-000.

Applicants: Sheldon Energy LLC.

Description: § 205(d) Rate Filing: Revised Market-Based Rate Tariff Filing to be effective 8/2/2016.

Filed Date: 6/2/16.

Accession Number: 20160602-5326.

Comments Due: 5 p.m. ET 6/23/16.

Docket Numbers: ER16-1862-000.

Applicants: Spindle Hill Energy LLC.

Description: § 205(d) Rate Filing: Revised Market-Based Rate Tariff Filing to be effective 8/2/2016.

Filed Date: 6/2/16.

Accession Number: 20160602-5330.

Comments Due: 5 p.m. ET 6/23/16.

Docket Numbers: ER16-1863-000.

Applicants: Spring Canyon Energy LLC.

Description: § 205(d) Rate Filing: Revised Market-Based Rate Tariff Filing to be effective 8/2/2016.

Filed Date: 6/2/16.

Accession Number: 20160602-5332.

Comments Due: 5 p.m. ET 6/23/16.

Docket Numbers: ER16-1864-000.

Applicants: Stony Creek Energy LLC.

Description: § 205(d) Rate Filing: Revised Market-Based Rate Tariff Filing to be effective 8/2/2016.

Filed Date: 6/2/16.

Accession Number: 20160602-5333.

Comments Due: 5 p.m. ET 6/23/16.

Docket Numbers: ER16-1865-000.

Applicants: Willow Creek Energy LLC.

Description: § 205(d) Rate Filing: Revised Market-Based Rate Tariff Filing to be effective 8/2/2016.

Filed Date: 6/2/16.

Accession Number: 20160602-5336.

Comments Due: 5 p.m. ET 6/23/16.

Docket Numbers: ER16-1866-000.

Applicants: Wolverine Creek Energy LLC.

Description: § 205(d) Rate Filing: Revised Market-Based Rate Tariff Filing to be effective 8/2/2016.

Filed Date: 6/2/16.

Accession Number: 20160602-5340.

Comments Due: 5 p.m. ET 6/23/16.

Docket Numbers: ER16-1867-000.

Applicants: Prairie Breeze Wind Energy II LLC.

Description: § 205(d) Rate Filing: Revised Market-Based Rate Tariff Filing to be effective 8/2/2016.

Filed Date: 6/2/16.

Accession Number: 20160602-5342.

Comments Due: 5 p.m. ET 6/23/16.

Docket Numbers: ER16-1868-000.

Applicants: Prairie Breeze Wind Energy III LLC.

Description: § 205(d) Rate Filing: Revised Market-Based Rate Tariff Filing to be effective 8/2/2016.

Filed Date: 6/2/16.

Accession Number: 20160602-5344.

Comments Due: 5 p.m. ET 6/23/16.

Docket Numbers: ER16-1869-000.

Applicants: Vantage Wind Energy LLC.

Description: § 205(d) Rate Filing: Revised Market-Based Rate Tariff Filing to be effective 8/2/2016.

Filed Date: 6/2/16.

Accession Number: 20160602-5348.

Comments Due: 5 p.m. ET 6/23/16.

Docket Numbers: ER16-1870-000.

Applicants: Grand Ridge Energy II LLC.

Description: § 205(d) Rate Filing: Revised Market-Based Rate Tariff Filing to be effective 8/2/2016.

Filed Date: 6/2/16.

Accession Number: 20160602-5357.

Comments Due: 5 p.m. ET 6/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2016.
Nathaniel J. Davis, Sr.,
Deputy Secretary.

[FR Doc. 2016-13512 Filed 6-7-16; 8:45 am]

BILLING CODE 6717-01-P